SMALL BUSINESS ADMINISTRATION

[License No. 02/02-0703]

RF Investment Partners SBIC II, L.P.; Notice Seeking Exemption Under Section 312 of the Small Business Investment Act, Conflicts of Interest

Notice is hereby given that RF Investment Partners SBIC II, L.P. 501 Madison Avenue, 14th Floor, New York, NY 10022, a Federal Licensee under the Small Business Investment Act of 1958, as amended (“the Act”), in connection with the financing of a small concern, has sought an exemption under section 312 of the Act and 13 CFR 107.730, Financings which constitute conflicts of interest of the Small Business Administration (“SBA”) regulations. RF Investment Partners SBIC II, L.P., is seeking a written exemption from SBA for a proposed financing to SPATCO Energy Solutions, LLC, 8303 University Executive Park Dr. Suite 400, Charlotte, NC 28262.

The financing is brought within the purview of 13 CFR 107.730(a)(1) of the regulations because RF Investment Partners SBIC II, L.P. will provide financing to its Associate under Common Control in the company, SPATCO Energy Solutions, LLC therefore this transaction is considered Provide financing to any of your Associates requiring SBA's prior written exemption. RF Investment Partners SBIC II, L.P. has not made its investment in SPATCO Energy Solutions, LLC, and is seeking pre-financing SBA approval.

Notice is hereby given that any interested person may submit written comments on this transaction within fifteen days of the date of this publication to the Associate Administrator, Office of Investment and Innovation, U.S. Small Business Administration, 409 Third Street SW, Washington, DC 20416.

Bailey DeVries,
Associate Administrator, Office of Investment and Innovation, U.S. Small Business Administration.

[FR Doc. 2022-24154 Filed 11-4-22; 8:45 am]

BILLING CODE 8026-09-P